DEPARTMENT OF COMMERCE

National Telecommunications and Information Administration

Notice, Two-Day “Wireless Innovations: New Technologies and Evolving Policies'

AGENCY: National Telecommunications and Information Administration, Department of Commerce.

ACTION: Notice of public meeting.

SUMMARY: The Commerce Department's National Telecommunications and Information Administration (NTIA), in cooperation with the Federal Communications Commission (FCC) and the U.S. Department of State's Office of International Communications and Information Policy (CIP), will host a two-day wireless technology showcase and policy discussion. The first day will consist of an exhibition and demonstration of new, innovative wireless technologies, devices and applications. The second day will feature panel discussions on unlicensed wireless technologies by key policy makers, entrepreneurs, industry representatives, and experts from government and academia.

DATES: The technology showcase will be held 10 a.m. to 3 p.m., Monday, May 12, 2003. The roundtable will be held 9 a.m. to 5 p.m., Tuesday, May 13, 2003.

ADDRESSES: The Wireless Innovations Conference will be held at the U.S. Department of Commerce, 1401 Constitution Avenue, NW., Washington, DC. (Entrance to the Department of Commerce is on 14th Street between Constitution and Pennsylvania avenues.) The showcase will take place in the Commerce Lobby, and the roundtable will take place in the Commerce Auditorium. All events are open to the public. To facilitate entry into the Department of Commerce, please have a photo identification and/or U.S. Government building pass, if applicable.

FOR FURTHER INFORMATION CONTACT: Joe Gattuso, NTIA Office of Policy Analysis and Development, at (202) 482-1880, or electronic mail: jgattuso@ntia.doc.gov; Kathleen Ham, Federal Communications Commission, Office of Strategic Planning and Policy Analysis, at (202) 418-2030, or electronic mail: kham@fcc.gov; or Andrew Weinschenk, Department of State, Office of International Communications and Information Policy, at (202) 647-9340, or electronic mail: weinschenkaj@state.gov. All media inquiries should be directed to the Office of Public Affairs, NTIA, at (202) 482-7002.

SUPPLEMENTARY INFORMATION: This two-day event will build upon NTIA's “Spectrum Summit” held last year, the findings and recommendations of the FCC's Spectrum Policy Task Force, and the State Department's international policy and regulatory reform efforts by highlighting and demonstrating new and emerging technologies and creating a forum to discuss important spectrum policy issues that are likely to impact tomorrow's ever-changing marketplace. The technology exhibition will provide policy makers and members of the public and news media an opportunity to witness live demonstrations of cutting edge wireless technologies and applications. The panel discussions, which will be webcast over the Internet, will focus on unlicensed wireless technologies and will allow technology innovators and entrepreneurs the opportunity to interact and exchange ideas with key policy decision makers. Additional information about the panel discussion and the webcast will be announced in the near future and will be available on the NTIA home page at www.ntia.doc.gov, on the Spectrum Policy Task Force's home page at www.fcc.gov/sptf, and on CIP's home page at: www.state.gov/e/eb/cip/.

Public Participation: The showcase and panel discussions will be open to the public and press on a first-come, first-served basis. Space is limited. Due to security requirements and to facilitate entry to the Department of Commerce building, attendees must have photo identification available and/or a U.S. Government building pass, if applicable, and plan to arrive at least one half hour ahead of the panel sessions. The events are physically accessible to people with disabilities. Any member of the public wishing to attend and requiring special services, such as sign language interpretation or other ancillary aids, should contact Joe Gattuso at (202) 482-1880 or at jgattuso@ntia.doc.gov, at least three (3) days prior to the meeting.

Dated: April 18, 2003.
Kathy D. Smith,
Chief Counsel, National Telecommunications and Information Administration.

[FR Doc. 03-10078 Filed 4-23-03; 8:45 am]

BILLING CODE 3510-60-P